DEPARTMENT OF ENERGY

Federal Energy Regulatory Commission

[Docket No. PF04-6-000]

Questar Pipeline Company; Notice of Site Visit

March 31, 2004.

On Tuesday, April 13, 2004, the staff of the Federal Energy Regulatory Commission (FERC) will conduct a site visit of Questar Pipeline Company's (Questar) Southern System Expansion Project located near the City of Price, Utah. We will meet at 8 a.m. at the Holiday Inn, 838 Westwood Blvd., Price, Utah. Interested persons may attend, but must provide their own transportation.

For additional information about the site visit, please contact the FERC's Office of External Affairs at 1-866-208-3372.

Magalie R. Salas,
Secretary.

[FR Doc. E4-778 Filed 4-6-04; 8:45 a.m.]

BILLING CODE 6717-01-P